DEPARTMENT OF AGRICULTURE

Agricultural Marketing Service

[Docket No. FV-04-306]

United States Standards for Grades of Watermelons

AGENCY: Agricultural Marketing Service, USDA.

ACTION: Notice; request for public comment.

SUMMARY: The Agricultural Marketing Service (AMS), of the Department of Agriculture is soliciting comments on the proposal to revise the United States Standards for Grades of Watermelons. AMS has received a petition from the National Watermelon Association (NWA), requesting a definition for seedless watermelons be added to the standards. Additionally, the petition included a request to add a variance to the size requirements. This change was requested by the industry in order to bring the standards for watermelons in line with current marketing practices, thereby, improving the usefulness of the standards in serving the industry.

DATES: Comments must be received by December 28, 2004.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Watermelons is available either through the address cited above or by accessing the AMS Home Page on the Web at http://www.ams.usda.gov/fv/fvstand.htm.

FOR FURTHER INFORMATION CONTACT: David L. Priester, at the above address or call (202) 720-2185; E-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is proposing to revise the voluntary United States Standards for Grades of Watermelons using procedures that appear in part 36 Title 7 of the Code of Federal Regulations (7 CFR part 36). These standards were last revised in 1978.

Background

AMS received a petition from the NWA requesting a revision to the United States Standards for Grades of Watermelons. The standards are established under the authority of the Agricultural Marketing Act of 1946 (7 U.S.C. 1621-1627). The petitioner represents watermelon growers and distributors from 30 states as well as Canada and Mexico.

The petitioner is requesting that USDA add the following definition: “Seedless Watermelons” are watermelons which have 16 or less mature seeds, not to include pips/caplets, on the face of the melon which has been cut into four equal sections (one lengthwise cut and one crosswise cut). Additionally, the petitioner is requesting the size requirements be revised. Currently the size requirements state, “When the size of the watermelons is stated in terms of average weight, unless otherwise specified, the melons in any lot averaging less than 30 pounds (13.6 kgs.) shall not vary more than 3 pounds (1.4 kgs.) below the stated average, and the melons in any lot averaging 30 pounds (13.6 kgs.) or more shall not vary more than 5 pounds (2.3 kgs.) below the stated average.” The petitioner is requesting the size requirements be revised to allow for watermelons to vary 3 pounds above or below the average. Therefore, the size requirements would state, “When the size of the watermelons is stated in terms of average weight, unless otherwise specified, the melons in any lot averaging less than 30 pounds (13.6 kgs.) shall not vary more than 3 pounds (1.4 kgs.) above or below the stated average, and the melons in any lot averaging 30 pounds (13.6 kgs.) or more shall not vary more than 5 pounds (2.3 kgs.) below the stated average.”

Prior to undertaking research and other work associated with revision of the grade standards, AMS decided to seek public comments on the petition. A notice requesting comments on the petition to revise the United States Standards for Grades of Watermelons was published in the April 22, 2004, Federal Register (69 FR 21812).

In response to our request for comments, AMS received one comment from an industry group. The comment was in favor of the proposed revision of the standards.

Based on the submitted information, AMS is proposing to revise the standards for watermelons following the standard format for U.S. Grade Standards. Specifically, the proposed revision will define seedless watermelons by including the following definition: “Seedless Watermelons” are watermelons which have 16 or less mature seeds, not to include pips/caplets, on the face of the melon which has been cut into four equal sections (one lengthwise cut and one crosswise cut). AMS is also proposing to change the size requirements by adding an allowance for watermelons to vary 3 pounds above or below the stated average weight.

This proposal will bring the standards for watermelons in line with current marketing practices, thereby, improving the usefulness of the standards in serving the industry. The official grade of a lot of watermelons covered by these standards will be determined by the procedures set forth in the Regulations Governing Inspection, Certification, and Standards of Fresh Fruits, Vegetables and Other Products (§§ 51.1 to 51.61).

This notice provides for a 60-day comment period for interested parties to comment on changes to the standards.

Authority: 7 U.S.C. 1621-1627.

Dated: October 25, 2004.
A.J. Yates,
Administrator, Agricultural Marketing Service.

[FR Doc. 04-24162 Filed 10-28-04; 8:45 am]

BILLING CODE 3410-02-P